DEPARTMENT OF DEFENSE

Office of the Secretary

Department of Defense Wage Committee (DoDWC); Notice of Federal Advisory Committee Meetings

AGENCY: Under Secretary of Defense for Personnel and Readiness, Department of Defense (DoD).

ACTION: Notice of closed Federal advisory committee meetings.

SUMMARY: The DoD is publishing this notice to announce that the following Federal advisory committee meetings of the DoDWC will take place.

DATES:

Tuesday, December 12, 2023, from 10 a.m. to 11:30 a.m. and will be closed to the public.

Tuesday, December 19, 2023, from 10 a.m. to 10:30 a.m. and will be closed to the public.

Tuesday, January 9, 2024, from 10 a.m. to 11:00 a.m. and will be closed to the public.

Tuesday, January 23, 2024, from 10 a.m. to 10:30 a.m. and will be closed to the public.

Tuesday, February 6, 2024, from 10 a.m. to 10:30 a.m. and will be closed to the public.

Tuesday, February 20, 2024, from 10 a.m. to 11:30 a.m. and will be closed to the public.

Tuesday, March 5, 2024, from 10 a.m. to 11:30 a.m. and will be closed to the public. All eastern standard time.

ADDRESSES: The closed meetings will be held by Microsoft Teams.

FOR FURTHER INFORMATION CONTACT: Mr. Karl Fendt, (571) 372-1618 (voice), karl.h.fendt.civ@mail.mil (email), 4800 Mark Center Drive, Suite 05G21, Alexandria, Virginia 22350 (mailing address). Any agenda updates can be found at the DoDWC's official website: https://wageandsalary.dcpas.osd.mil/BWN/DODWC/.

SUPPLEMENTARY INFORMATION: Due to circumstances beyond the control of the Designated Federal Officer, the Department of Defense Wage Committee was unable to provide public notification required by 41 CFR 102-3.150(a) concerning its December 12, 2023 meeting. Accordingly, the Advisory Committee Management Officer for the Department of Defense, pursuant to 41 CFR 102-3.150(b), waives the 15-calendar day notification requirement.

Due to circumstances beyond the control of the Designated Federal Officer, the Department of Defense Wage Committee was unable to provide public notification required by 41 CFR 102-3.150(a) concerning its December 19, 2023 meeting. Accordingly, the Advisory Committee Management Officer for the Department of Defense, pursuant to 41 CFR 102-3.150(b), waives the 15-calendar day notification requirement.

These meetings are being held under the provisions of chapter 10 of title 5, United States Code (U.S.C.) (commonly known as the “Federal Advisory Committee Act” or “FACA”), 5 U.S.C. 552b (commonly known as the “Government in the Sunshine Act”), and 41 CFR 102-3.140 and 102-3.150.

Purpose of the Meeting: The purpose of these meetings is to provide independent advice and recommendations on matters relating to the conduct of wage surveys and the establishment of wage schedules for all appropriated fund and non-appropriated fund areas of blue-collar employees within the DoD.

Agendas

December 12, 2023

Opening Remarks by Chair, Mr. Eric Clayton, and Designated Federal Officer (DFO), Mr. Karl Fendt.

Reviewing survey results and/or survey specifications for the following Non-appropriated Fund areas:

1. Any items needing further clarification or action from the previous meeting.

2. Survey Specifications for the Calhoun, Alabama wage area (AC-104).

3. Survey Specifications for the Madison, Alabama wage area (AC-105).

4. Survey Specifications for the Lake, Illinois wage area (AC-145).

5. Survey Specifications for the Douglas-Sarpy, Nebraska wage area (AC-149).

6. Survey Specifications for the Leavenworth, Kansas/Jackson-Johnson, Missouri wage area (AC-151).

7. Survey Specifications for the St. Clair, Illinois wage area (AC-157).

Reviewing survey results and/or survey specifications for the following Appropriated Fund areas:

8. Wage Schedule (Full Scale) for the Cocoa Beach-Melbourne, Florida wage area (AC-028).

9. Wage Schedule (Full Scale) for the Eastern South Dakota wage area (AC-121).

10. Wage Schedule (Wage Change) for the Bloomington-Bedford-Washington, Indiana wage area (AC-048).

11. Wage Schedule (Wage Change) for the Ft. Wayne-Marion, Indiana wage area (AC-049).

12. Wage Schedule (Wage Change) for the Indianapolis, Indiana wage area (AC-050).

13. Wage Schedule (Wage Change) for the Kansas City, Missouri wage area (AC-080).

14. Wage Schedule (Wage Change) for the St. Louis, Missouri wage area (AC-081).

15. Wage Schedule (Wage Change) for the Southern Missouri wage area (AC-082).

16. Wage Schedule (Wage Change) for the Omaha, Nebraska wage area (AC-084).

17. Wage Schedule (Wage Change) for the Dallas-Ft. Worth, Texas wage area (AC-131).

18. Survey Specifications for the Reno, Nevada wage area (AC-086).

19. Special Pay—Omaha, Nebraska Special Rates.

20. Any items needing further clarification from this agenda may be discussed during future scheduled meetings.

Closing Remarks by Chair, Mr. Eric Clayton.

December 19, 2023

Opening Remarks by Chair, Mr. Eric Clayton, and DFO, Mr. Karl Fendt.

Reviewing survey results and/or survey specifications for the following Appropriated Fund areas:

1. Any items needing further clarification or action from the previous meeting.

2. Wage Schedule (Full Scale) for the Davenport-Rock Island-Moline, Iowa wage area (AC-053).

3. Wage Schedule (Full Scale) for the Southwestern Michigan wage area (AC-073).

4. Wage Schedule (Full Scale) for the Philadelphia, Pennsylvania wage area (AC-115).

5. Survey Specifications for the Syracuse-Utica-Rome, New York wage area (AC-097).

6. Survey Specifications for the North Dakota wage area (AC-103).

7. Survey Specifications for the Houston-Galveston-Texas City, Texas wage area (AC-133).

8. Special Rates—Philadelphia, Pennsylvania Special Rates.

9. Any items needing further clarification from this agenda may be discussed during future scheduled meetings.

Closing Remarks by Chair, Mr. Eric Clayton.

January 9, 2024

Opening Remarks by Chair, Mr. Eric Clayton, and DFO, Mr. Karl Fendt.

Reviewing survey results and/or survey specifications for the following Non-appropriated Fund areas:

1. Any items needing further clarification or action from the previous meeting.

2. Survey Specifications for the Cumberland, Pennsylvania wage area (AC-092).

3. Survey Specifications for the York, Pennsylvania wage area (AC-093).

4. Survey Specifications for the Honolulu, Hawaii wage area (AC-106).

5. Survey Specifications for the Norfolk-Portsmouth-Virginia Beach, Virginia wage area (AC-111).

6. Survey Specifications for the Hampton-Newport News, Virginia wage area (AC-112).

7. Survey Specifications for the Harford, Maryland wage area (AC-148).

Reviewing survey results and/or survey specifications for the following Appropriated Fund areas:

8. Wage Schedule (Full Scale) for the Wilmington, Delaware wage area (AC-026).

9. Wage Schedule (Full Scale) for the Topeka, Kansas wage area (AC-056).

10. Wage Schedule (Full Scale) for the Wichita, Kansas wage area (AC-057).

11. Wage Schedule (Full Scale) for the Biloxi, Mississippi wage area (AC-076).

12. Wage Schedule (Full Scale) for the Roanoke, Virginia wage area (AC-142).

13. Wage Schedule (Wage Change) for the Richmond, Virginia wage area (AC-141).

14. Special Pay—Wilmington, Delaware Special Rates.

15. Any items needing further clarification from this agenda may be discussed during future scheduled meetings.

Closing Remarks by Chair, Mr. Eric Clayton.

January 23, 2024

Opening Remarks by Chair, Mr. Eric Clayton, and DFO, Mr. Karl Fendt.

Reviewing survey results and/or survey specifications for the following Appropriated Fund areas:

1. Any items needing further clarification or action from the previous meeting.

2. Wage Schedule (Wage Change) for the New Orleans, Louisiana wage area (AC-061).

3. Survey Specifications for the Anniston-Gadsden, Alabama wage area (AC-001).

4. Survey Specifications for the Huntsville, Alabama wage area (AC-004).

5. Survey Specifications for the Tampa-St. Petersburg, Florida wage area (AC-035).

6. Survey Specifications for the Lake Charles-Alexandria, Louisiana wage area (AC-060).

7. Survey Specifications for the El Paso, Texas wage area (AC-132).

8. Any items needing further clarification from this agenda may be discussed during future scheduled meetings.

Closing Remarks by Chair, Mr. Eric Clayton.

February 6, 2024

Opening Remarks by Chair, Mr. Eric Clayton, and DFO, Mr. Karl Fendt.

Reviewing survey results and/or survey specifications for the following Non-appropriated Fund areas:

1. Any items needing further clarification or action from the previous meeting.

2. Survey Specifications for the Pennington, South Dakota wage area (AC-086).

3. Survey Specifications for the Nueces, Texas wage area (AC-115).

4. Survey Specifications for the Bexar, Texas wage area (AC-117).

5. Survey Specifications for the Anchorage, Alaska wage area (AC-118).

6. Survey Specifications for the Kitsap, Washington wage area (AC-142).

7. Survey Specifications for the Dallas, Texas wage area (AC-152).

8. Survey Specifications for the Tarrant, Texas wage area (AC-156).

9. Any items needing further clarification from this agenda may be discussed during future scheduled meetings.

Closing Remarks by Chair, Mr. Eric Clayton.

February 20, 2024

Opening Remarks by Chair, Mr. Eric Clayton, and DFO, Mr. Karl Fendt.

Reviewing survey results and/or survey specifications for the following Non-appropriated Fund areas:

1. Any items needing further clarification or action from the previous meeting.

2. Wage Schedule (Full Scale) for the Washoe-Churchill, Nevada wage area (AC-011).

3. Wage Schedule (Full Scale) for the Orange, Florida wage area (AC-062).

4. Wage Schedule (Full Scale) for the Bay, Florida wage area (AC-063).

5. Wage Schedule (Full Scale) for the Escambia, Florida wage area (AC-064).

6. Wage Schedule (Full Scale) for the Okaloosa, Florida wage area (AC-065).

7. Wage Schedule (Full Scale) for the Clark, Nevada wage area (AC-140).

8. Wage Schedule (Wage Change) for the Brevard, Florida wage area (AC-061).

9. Wage Schedule (Wage Change) for the Hillsborough, Florida wage area (AC-119).

10. Wage Schedule (Wage Change) for the Miami-Dade, Florida wage area (AC-158).

11. Wage Schedule (Wage Change) for the Duval, Florida wage area (AC-159).

12. Wage Schedule (Wage Change) for the Monroe, Florida wage area (AC-160).

Reviewing survey results and/or survey specifications for the following Appropriated Fund areas:

13. Survey Specifications for the Shreveport, Louisiana wage area (AC-062).

14. Survey Specifications for the Central North Carolina wage area (AC-099).

15. Survey Specifications for the Columbia, South Carolina wage area (AC-120).

16. Survey Specifications for the Norfolk-Portsmouth-Newport News-Hampton, Virginia wage area (AC-140).

17. Any items needing further clarification from this agenda may be discussed during future scheduled meetings.

Closing Remarks by Chair, Mr. Eric Clayton.

March 5, 2024

Opening Remarks by Chair, Mr. Eric Clayton, and DFO, Mr. Karl Fendt.

Reviewing survey results and/or survey specifications for the following Non-appropriated Fund areas:

1. Any items needing further clarification or action from the previous meeting.

2. Survey Specifications for the Arapahoe-Denver, Colorado wage area (AC-084).

3. Survey Specifications for the El Paso, Colorado wage area (AC-085).

4. Survey Specifications for the Laramie, Wyoming wage area (AC-087).

5. Survey Specifications for the New London, Connecticut wage area (AC-136).

6. Survey Specifications for the Snohomish, Washington wage area (AC-141).

7. Survey Specifications for the Pierce, Washington wage area (AC-143).

8. Survey Specifications for the Newport, Rhode Island wage area (AC-167).

Reviewing survey results and/or survey specifications for the following Appropriated Fund areas:

9. Wage Schedule (Full Scale) for the Birmingham, Alabama wage area (AC-002).

10. Wage Schedule (Full Scale) for the Hagerstown-Martinsburg-Chambersburg, Maryland wage area (AC-067).

11. Wage Schedule (Full Scale) for the Harrisburg, Pennsylvania wage area (AC-114).

12. Wage Schedule (Wage Change) for the Jacksonville, Florida wage area (AC-030).

13. Wage Schedule (Wage Change) for the Detroit, Michigan wage area (AC-070).

14. Wage Schedule (Wage Change) for the Southeastern North Carolina wage area (AC-101).

15. Wage Schedule (Wage Change) for the Columbus, Ohio wage area (AC-106).

16. Survey Specifications for the Augusta, Maine wage area (AC-063).

17. Special Pay—Jacksonville, Florida Special Rates.

18. Any items needing further clarification from this agenda may be discussed during future scheduled meetings.

Closing Remarks by Chair, Mr. Eric Clayton.

Meeting Accessibility: Pursuant to 5 U.S.C. 552b(c)(4), the DoD has determined that the meetings shall be closed to the public. The Under Secretary of Defense for Personnel and Readiness, in consultation with the DoD Office of General Counsel, has determined in writing that each of these meetings is likely to disclose trade secrets and commercial or financial information obtained from a person and privileged or confidential.

Written Statements: Pursuant to 5 U.S.C. 1009(a)(3) and 41 CFR 102-3.140, interested persons may submit written statements to the DFO for the DoDWC at any time. Written statements should be submitted to the DFO at the email or mailing address listed in the FOR FURTHER INFORMATION CONTACT section. If statements pertain to a specific topic being discussed at a planned meeting, then these statements must be submitted no later than five (5) business days prior to the meeting in question. Written statements received after this date may not be provided to or considered by the DoDWC until its next meeting. The DFO will review all timely submitted written statements and provide copies to all the committee members before the meetings that are the subject of this notice.

Dated: December 13, 2023.
Aaron T. Siegel,
Alternate OSD Federal Register Liaison Officer, Department of Defense.

[FR Doc. 2023-28012 Filed 12-19-23; 8:45 am]

BILLING CODE 6001-FR-P